POSTAL SERVICE

Board of Governors; Sunshine Act Meeting

TIMES AND DATES: 4 p.m., Monday, January 10, 2011; and 9 a.m., Tuesday, January 11, 2011.

PLACE: Long Beach, California, at the Renaissance Hotel, 111 East Ocean Boulevard.

STATUS: (Closed).

MATTERS TO BE CONSIDERED:

Monday, January 10, at 4 p.m. (Closed)

1. Financial Matters.

2. Pricing.

3. Strategic Issues.

4. Personnel Matters and Compensation Issues.

5. Governors' Executive Session—Discussion of prior agenda items and Board Governance.

Tuesday, January 11, at 9 a.m. (Closed)

1. Continuation of Monday's agenda.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2010-33358 Filed 1-3-11; 4:15 pm]

BILLING CODE 7710-12-P